DEPARTMENT OF LABOR

Employment and Training Administration

[TA-W-40,579]

VDO North America LLC; Winchester, VA; Notice of Termination of Investigation

Pursuant to section 221 of the Trade Act of 1974, an investigation was initiated on January 14, 2002, in response to a petition filed by a company official on behalf of workers at VDO North America LLC, Winchester, Virginia.

The petitioner has requested that the petition be withdrawn with the intention to refile the petition when increased company imports of product transferred offshore become evident. Consequently, further investigation in this case would serve no purpose, and the investigation has been terminated.

Signed in Washington, DC this 25th day of March, 2002.
Linda G. Poole,
Certifying Officer, Division of Trade Adjustment Assistance.

[FR Doc. 02-8272 Filed 4-4-02; 8:45 am]

BILLING CODE 4510-30-M